DEPARTMENT OF COMMERCE

National Oceanic and Atmospheric Administration

Agency Information Collection Activities; Submission to the Office of Management and Budget (OMB) for Review and Approval; Comment Request; Southeast Region Logbook Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 12, 2021 during a 60-day comment period. This notice allows for an additional 30 days for public comments.

Agency: National Oceanic & Atmospheric Administration (NOAA), Commerce.

Title: Southeast Logbook Family of Forms.

OMB Control Number: 0648-0016.

Form Number(s): None.

Type of Request: Regular submission (extension, revision of a current information collection).

Number of Respondents: 6,867.

Average Hours per Response: Annual fixed-cost report, 45 minutes; discard logbook, 15 minutes; headboat, charter vessel, golden crab, reef fish-mackerel, economic cost per trip, wreckfish,, 10 minutes; no-fishing report for golden crab, reef fish-mackerel, charter vessels, and wreckfish, 2 minutes; installation of a vessel monitoring unit, 5 hours; landing location request and power-down exemption request, 5 minutes; trip declaration, 2 minutes; and proposed intercept survey, 15 minutes.

Total Annual Burden Hours: 16,429.

Needs and Uses: This request is for an extension and revision of a current information collection.

Participants in most federally managed fisheries in the NMFS Southeast Region are currently required to keep and submit catch and effort logbooks from their fishing trips. A subset of fishermen on these vessels also provides information on the species and quantities of fish, shellfish, marine turtles, and marine mammals that are caught and discarded or have interacted with the fishing gear. A subset of fishermen on these vessels also provides information about dockside prices, trip operating costs, and annual fixed costs. An intercept survey for vessels with Federal charter vessel/headboat permits is designed to support and validate the electronic logbooks.

The data are used for scientific analyses that support critical conservation and management decisions made by national and international fishery management organizations. Interaction reports are needed for fishery management planning and to help protect endangered species and marine mammals. Price and cost data will be used in analyses of the economic effects of proposed and existing regulations.

Regulatory Amendment 29 effective July 15, 2020 would require at least one descending device to be on board and ready for use on commercial, for-hire, and private recreational vessels while fishing for or possessing snapper-grouper species in the South Atlantic. Most recently the Descend Act was passed, which added a new section 321 to the Magnuson-Stevens Fishery Conservation and Management Act. This requires commercial and recreational fishermen to possess a venting tool or descending device that is rigged and ready for use when fishing for reef fish in the Gulf of Mexico Exclusive Economic Zone.

Descending devices increase survivability from barotrauma, which is injury caused by internal gas expansion when reeled up from depth. In addition to being asked to report the number of fish released respondents would be asked to report the method used to release fish as part of their current logbook submissions. The purpose of asking respondents to distinguish between fish releases without descending devices, fish released with gas bladders vented, and fish released with descending devices is to provide data needed by NMFS to accurately account for fishing mortality when performing stock assessments.

Affected Public: Businesses or other for-profit organizations; individuals.

Frequency: Monthly for no activity or once per fishing trip.

Respondent's Obligation: Mandatory.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0016.

Sheleen Dumas,
Department PRA Clearance Officer, Office of the Chief Information Officer, Commerce Department.

[FR Doc. 2022-03483 Filed 2-16-22; 8:45 am]

BILLING CODE 3510-22-P